DEPARTMENT OF TRANSPORTATION

Federal Transit Administration

Transit Advisory Committee for Safety; Re-Establishment of Charter

AGENCY: Federal Transit Administration, DOT.

ACTION: Notice of re-establishment of Transit Advisory Committee for Safety.

SUMMARY: The Federal Transit Administration (FTA) announces the re-establishment of the Transit Advisory Committee for Safety (TRACS) via a new charter. TRACS is a Federal Advisory Committee established by the U.S. Secretary of Transportation (Secretary) in accordance with the Federal Advisory Committee Act to provide information, advice and recommendations to the Secretary and the Administrator of FTA on matters relating to the safety of public transportation systems. This charter will be effective for two years from the date it is filed with Congress.

FOR FURTHER INFORMATION CONTACT: Henrika Buchanan, TRACS Designated Federal Officer, Acting Associate Administrator, FTA Office of Transit Safety and Oversight, (202) 366-4020; or Adrianne Malasky, FTA Office of Transit Safety and Oversight, (202) 366-1783.

SUPPLEMENTARY INFORMATION: This notice is provided in accordance with the Federal Advisory Committee Act (Pub. L. 92-463, 5 U.S.C. App. 2). Please see the TRACS website for additional information at https://www.transit.dot.gov/regulations-and-guidance/safety/transit-advisory-committee-safety-tracs.

Issued in Washington, DC.
K. Jane Williams,
Acting Administrator.

[FR Doc. 2018-18541 Filed 8-27-18; 8:45 am]

BILLING CODE P